NUCLEAR REGULATORY COMMISSION

[NRC-2009-0440; Docket No. 40-8989]

Issuance of Environmental Assessment and Draft Finding of No Significant Impact for Modification of Exemption From Certain U.S. Nuclear Regulatory Commission Licensing Requirements for Special Nuclear Material for EnergySolutions LLC, Clive, UT; Correction

AGENCY: Nuclear Regulatory Commission.

ACTION: Correction.

SUMMARY: This document corrects a notice appearing in the Federal Register on October 7, 2009 (74 FR 51622), in which NRC issues an Environmental Assessment and Draft Finding of No Significant Impact for modification of an exemption from certain NRC licensing requirements for special nuclear material for EnergySolutions, LLC, Clive, UT. This action is necessary to correct an erroneous reference.

FOR FURTHER INFORMATION CONTACT: Michael T. Lesar, Chief, Rulemaking and Directives Branch, Office of Administration, U.S. Nuclear Regulatory Commission, Telephone 301-492-3663, e-mail Michael.Lesar@nrc.gov.

SUPPLEMENTARY INFORMATION: In FR Doc. E9-24208, published on October 7, 2009, on page 51622, in the center column, in the SUMMARY paragraph, 22nd line, “WCS” is corrected to read “EnergySolutions”.

Dated at Rockville, Maryland, this 9th day of October 2009.
For the Nuclear Regulatory Commission.
Michael T. Lesar,
Chief, Rules and Directives Branch, Office of Administration.

[FR Doc. E9-24772 Filed 10-14-09; 8:45 am]

BILLING CODE 7590-01-P